DEPARTMENT OF HOUSING AND URBAN DEVELOPMENT

[Docket No. FR-6506-N-01]

Nonavailability Waiver applicable to Domestically Assembled Solar Photovoltaics (PV) Panels Referred to as “Solar Modules” Under Build America, Buy America Manufactured Product Provisions as Applied to Recipients of Department of Housing and Urban Development Federal Financial Assistance

AGENCY: Office of the Secretary, U.S. Department of Housing and Urban Development (HUD).

ACTION: Notice and request for public comment.

SUMMARY: In accordance with the Build America, Buy America Act (BABA), this notice advises that HUD is proposing to issue a temporary, limited non-availability partial waiver of the manufactured product requirements in BABA included in the Infrastructure Investment and Jobs Act (IIJA) for domestically assembled solar modules used in Federal financial assistance (FFA) awarded for infrastructure projects. This waiver covers multiple projects that HUD anticipates will involve the installation of solar modules with the intent of addressing multiple project specific non-availability waivers into one document to reduce paperwork and support administrative efficiency. The narrowly tailored BABA waiver proposed in this notice would support the establishment of a domestic solar supply chain, increase benefits for domestic solar manufacturing, and help reduce risks for vulnerable populations. HUD is seeking public comments on this proposed waiver.

DATES: HUD published this proposed waiver for public comment on its website on December 13, 2024. Pursuant to section 70914(c)(2) of BABA, HUD is soliciting comments from the public on this proposed waiver for a period of fifteen days from the date published on HUD's web page in this instance. Comments on the proposed waiver set out in this document are due on or before December 28, 2024. HUD will consider comments received in response to this Notice and announce its determination with respect to the adoption of this notice, including any changes that may be made in response to comments through a subsequent Notice. The proposed duration of the waiver would be from the effective date (“Effective Date”) of the proposed waiver until December 31, 2025. The waiver applies to solar modules with Final Assembly in the United States (as defined below in the “Proposed Waiver” section).

ADDRESSES: Interested persons are invited to submit comments on this notice. Copies of all comments submitted are available for inspection and downloading at www.regulations.gov.

To receive consideration as public comments, comments must be submitted through one of the two methods specified below. All submissions must refer to the above docket number and title. Commenters are encouraged to identify the number of the specific question or questions to which they are responding. Responses should include the name(s) of the person(s) or organization(s) filing the comment; however, because any responses received by HUD will be publicly available, responses should not include any personally identifiable information or confidential commercial information. Business confidential information can be submitted to BuildAmericaBuyAmerica@hud.gov.

1. Electronic Submission of Comments. Interested persons may submit comments electronically through the Federal eRulemaking Portal at www.regulations.gov. HUD strongly encourages commenters to submit comments electronically. Electronic submission of comments allows the commenter maximum time to prepare and submit a comment, ensures timely receipt by HUD, and enables HUD to make them immediately available to the public. Comments submitted electronically through the www.regulations.gov website can be viewed by other commenters and interested members of the public. Commenters should follow the instructions provided on that site to submit comments electronically.

2. Submission of Comments by Mail. Comments may be submitted by mail to the Regulations Division, Office of General Counsel, Department of Housing and Urban Development, 451 7th Street SW, Room 10276, Washington, DC 20410-0500.

No Facsimile Comments. Facsimile (FAX) comments will not be accepted.

Public Inspection of Comments. All comments and communications properly submitted to HUD will be available for public inspection and copying between 8 a.m. and 5 p.m. weekdays at the above address. Due to security measures at the HUD Headquarters building, an advance appointment to review the public comments must be scheduled by calling the Regulations Division at (202) 708-3055 (this is not a toll-free number). HUD welcomes and is prepared to receive calls from individuals who are deaf or hard of hearing, as well as individuals with speech or communication disabilities. To learn more about how to make an accessible telephone call, please visit: https://www.fcc.gov/consumers/guides/telecommunications-relay-service-trs. Copies of all comments submitted are available for inspection and downloading at http://www.regulations.gov.

FOR FURTHER INFORMATION CONTACT: Faith Rogers, Department of Housing and Urban Development, 451 Seventh Street SW, Room 10126, Washington, DC 20410-5000, at (202) 402-7082 (this is not a toll-free number). HUD welcomes and is prepared to receive calls from individuals who are deaf or hard of hearing, as well as individuals with speech and communication disabilities. To learn more about how to make an accessible telephone call, please visit https://www.fcc.gov/consumers/guides/telecommunications-relay-service-trs. HUD encourages submission of questions about this document be sent to BuildAmericaBuyAmerica@hud.gov.

I. Build America, Buy America

The Build America, Buy America Act (“BABA” or “the Act”) was enacted on November 15, 2021, as part of the Infrastructure Investment and Jobs Act (“IIJA”) (Pub. L. 117-58). The Act establishes a domestic content procurement preference, the BAP, for Federal infrastructure programs. Section 70914(a) of the Act establishes that no later than 180 days after the date of enactment, HUD must ensure that none of the funds made available for infrastructure projects may be obligated by the Department unless it has taken steps to ensure that the iron, steel, manufactured products, and construction materials used in a project are produced in the United States. In section 70912, the Act further defines a project to include “the construction, alteration, maintenance, or repair of infrastructure in the United States” and includes within the definition of infrastructure those items traditionally included along with buildings and real property. Thus, starting May 14, 2022, new awards of HUD FFA, and any of those funds newly obligated by HUD then obligated by the grantee for infrastructure projects, are covered under BABA provisions of the Act, 41 U.S.C. 8301 note, unless covered by a waiver.

Solar modules are manufactured products. Per sections 70912(6)(A) and (B) of the Act, manufactured products are considered to be produced in the United States if (i) the manufactured product was manufactured in the United States; and (ii) the cost of the components of the manufactured product that are mined, produced, or manufactured in the United States is greater than 55 percent of the total cost of all components of the manufactured product, unless another standard for determining the minimum amount of domestic content of the manufactured product has been established under applicable law or regulation.

II. HUD's Progress in Implementation of the Act Generally

The IIJA and the Inflation Reduction Act (Pub. L. 117-169, Aug. 16, 2022) provided historic investments for federal infrastructure, including $1 billion in funding for green retrofits. These developments in addition to HUD's base funding, provide an opportunity for significant expansion of domestic manufacturing capacity for products. Since the enactment of the Act, HUD has worked diligently to develop a plan to fully implement the BAP across its FFA programs. HUD understands that advancing Made in America objectives is a continuous effort and believes setting forth a transparent schedule of future implementation for FFA programs provides recipients, stakeholders, and industry partners with the time and notice necessary to efficiently and effectively implement the BAP. HUD continues its efforts to implement the Act in HUD's FFA programs consistent with the guidance and requirements of the Made in America Office of the Office of Management and Budget, including guidance concerning compliance with the BAP.

In order to ensure orderly implementation of the BAP across HUD's FFA programs, HUD has provided public interest, general applicability waivers in order to implement the BAP in phases in connection with the application of the BAP in such programs and announced a corresponding implementation plan. As part of those efforts, HUD has published two general applicability, public interest waivers covering Exigent Circumstances and De Minimis and Small Grants; a general applicability, public interest waiver applied to Pacific Island Territory Recipients of HUD FFA; and waivers that remain applicable to funds obligated by HUD during the relevant periods of applicability, all of which can be found at https://www.hud.gov/program_offices/general_counsel/build_america_buy_america/waiver.

III. Waivers

Under section 70914(b), HUD and other Federal agencies have authority to waive the application of a domestic content procurement preference when (1) application of the preference would be contrary to the public interest, (2) the materials and products subject to the preference are not produced in the United States at a sufficient and reasonably available quantity or satisfactory quality, or (3) inclusion of domestically produced materials and products would increase the cost of the overall project by more than 25 percent. All waivers must have a written explanation for the proposed determination; provide a period of not less than fifteen (15) calendar days for public comment on the proposed waiver; and submit the proposed waiver to the OMB Made in America Office for review to determine if the waiver is consistent with policy.

Section 70914(c) provides that a waiver under section 70914(b) must be published by the agency with a detailed written explanation for the proposed determination and provide a public comment period of not less than 15 days. Pursuant to section 70914(d)(2), when seeking to extend a waiver of general applicability, HUD is required to provide for a public comment period of not less than 30 days on the continued need such waiver.

IV. Proposed Waiver

HUD is proposing to issue a temporary, limited non-availability partial waiver of the manufactured product requirements of Section 70914(a) of the Build America, Buy America Act (“BABA”) included in the Infrastructure Investment and Jobs Act (IIJA) (Pub. L. 117-58) for domestically assembled solar modules used in federal financial assistance awarded for infrastructure projects. This waiver covers multiple projects that HUD anticipates will involve the installation of solar modules with the intent of addressing multiple project specific non-availability waivers into one document to reduce paperwork and support administrative efficiency.

HUD's proposed waiver requires domestic assembly versus a waiver of the full manufactured product requirements, which would allow assembly to occur outside the United States. This waiver is intended to provide time needed for domestic solar module manufacturing capability to meet demand for BABA-compliant solar modules by supporting and encouraging continued investments while bringing the benefits of solar to the HUD's financial assistance recipients.

This proposed waiver would apply on or after the Effective Date of this notice until December 31, 2025 for all new solar modules with Final Assembly in the United States. Solar modules where final assembly occurred outside the United States are not eligible for coverage under this waiver. “Final Assembly” means all operations involved in the transformation of individual solar cells and all other module components into a fully functional encapsulated module, including deposition of electrically active PV absorber material (e.g, cadmium telluride on glass) etc. For recipient expenditures to be covered by this waiver, the solar modules will need to be installed by June 30, 2026. “Installed by” means modules being permanently fastened to an outdoor support structure at the project site. HUD proposes to apply this waiver, if approved, to all Federal Financial Assistance. For Awards and amendments that otherwise meet the criteria of the waiver but were obligated prior to the Effective Date, the waiver will apply to eligible expenditures incurred on or after the Effective Date of the final waiver for the period that the waiver is active.

In accordance with Section 70914(c) of the BABA, HUD is providing notice that it is seeking a limited, partial general applicability nonavailability waiver of the BABA manufactured product requirements for domestically assembled solar modules used in federal financial assistance awards for infrastructure projects due to the determination that compliant solar modules are not available in sufficient quality or quantity for use in HUD-funded infrastructure projects. The Department of Energy conducted market research to determine availability of BABA compliant solar modules which included subject matter expert analysis of domestic solar production based on announcements and non-public manufacturing plans disclosed by manufacturers. Based on this market research, HUD proposes to find that BABA-compliant solar modules are not produced in the United States in sufficient and reasonably available quantities for use in HUD-assisted solar projects, and will not become available in sufficient and reasonably available quantities until December 2025 or later. This proposed waiver, if finalized, will ensure recipients can effectively carry out the activities of their award in a timely manner while promoting domestic solar module manufacturing. HUD seeks to issue this waiver on the basis of nonavailability in accordance with Section 70914(b)(2) of the BABA.

V. Waiver Justification

HUD is proposing a temporary, limited partial nonavailability waiver of BABA manufactured product requirements for solar modules to apply to the use of domestically assembled modules that may incorporate foreign components. The United States is the second largest market for solar hardware, representing about 10%-15% of global solar demand. Developing and enhancing United States solar manufacturing will mitigate global supply chain challenges and meet decarbonization goals as well as benefit United States' workers, employers, and the economy. To reestablish domestic solar manufacturing in the United States, entities that produce and sell solar components will require a holistic industrial strategy to offset the 30-40% higher cost of domestic solar production relative to imported components. A narrowly tailored BABA waiver will meet immediate solar demands while the domestic solar industry expands supply.

Domestically, the United States currently has 10,600 MWdc/year nameplate production capacity for CdTe modules and 47,000 MWdc/yr nameplate production capacity for c-Si modules. Market research indicates c-Si module production capacity was historically underutilized for a variety of reasons including foreign competition, workforce shortages, and obsolete production equipment, with about 3,700 MWdc actually produced and sold in 2023 compared to a nameplate capacity of 15,000 MWdc/yr at the end of 2023. Capacity for c-Si modules has continued growing significantly in 2024 and as production is ramping, utilization rates are expected to grow. As of November 2024, domestic c-Si cell production in the United States has just restarted and production is also anticipated to grow. HUD has a portfolio of approximately 4.5 million public and assisted housing units. The HUD portfolio consumes an estimated 49,000 Gigawatt-hours of energy per year at a cost of $5.5 billion in annual utilities. Electricity makes up approximately 59% of all energy usage and 78% of the utility cost, creating significant demand and incentive to deploy solar on HUD's portfolio. This demand is anticipated to increase with the rise of extreme heat across the country and growing need to providing cooling for homes.

There are a significant number of grant programs funded by HUD that could be used to pay for solar installations subject to BABA. Even where the funding was obligated by HUD prior to being subject to BABA any new funding source added to a project that becomes subject to BABA might make the entire project subject to BABA, for example in the Public Housing Capital Fund. However, more importantly, the demand for solar modules for projects funded by HUD subject to BABA will derive from projects funded not only by HUD itself, but also by projects where HUD funding is part of the “Capital Stack” of a project that may or may not be subject to BABA. Two significant examples of such programs are the Clean Energy Tax Credits and Solar for All.

A significant driver of demand for solar modules stems from the Investment Tax Credit (ITC). Projects that are funded with the ITC that also qualify for additional bonus credits will often be located on or directly benefit HUD-assisted housing. Under the Clean Electricity Low-Income Communities Bonus Credit under section 48E(h) of the Internal Revenue Code, HUD-assisted properties are categorically eligible for the highest bonus credit available under the allocation of for eligible property that is part of a qualified low-income residential building project also known as Category 3 facility. It is highly likely, therefore, that such projects will further spur demand for solar modules purchased with HUD Federal Financial Assistance that is subject to BABA. Furthermore, 100% of the 7-billion-dollar Solar for All program funded by the Environmental Protection Agency must be spent in low and disadvantaged communities, which are often the same communities that receive some form of HUD funding subject to BABA and will likely be combined with such funding.

In addition to current production capacity, future domestic manufacturing indicates growth will result in substantially more BABA-compliant module supply. As of November 2024 over $20 billion in planned solar investments have been announced at over 148 new and expanded manufacturing plants for modules, module parts and other hardware. U.S. Department of Energy subject matter experts performed a probabilistic analysis of these announcements to identify a date when full BABA compliance may be achievable. Subject matter expert review identified technical delays from announced dates due to site readiness as well as likelihood of project success and considered the time required to ramp to full production capacities. Overall analysis concludes that domestic manufactures will likely be capable of producing fully BABA-compliant modules in sufficient quantities for all Federal financial assistance recipients no sooner than December 31, 2025. Thus, HUD proposes to find that BABA-compliant solar modules are not produced in the United States in sufficient and reasonably available quantities for use in HUD-assisted solar projects and will not become available in sufficient and reasonably available quantities until December 2025.

To support BABA compliance verification, HUD is considering step-certification, which is a type of certification process under which each handler (supplier, fabricator, manufacturer, processor, etc.) of the subject products and materials certifies that their step in the process was domestically performed. Each time a step in the manufacturing process takes place, the manufacturer delivers its work along with a certification of its origin. This process is common practice for verifying Buy America requirements for iron and steel. A solar step process may include manufacture of the wafers, cells, as well as modules in the United States, or equivalent processes for other solar manufacturing technologies.

VI. Impact Absent the Waiver

Without a waiver, HUD anticipates most recipients with solar projects subject to BABA will develop, implement, and submit unavailability waiver packages for solar modules. This conclusion is based upon known well-established domestic sourcing challenges for BABA-compliant solar modules. The corresponding administrative burden will impact the cost and schedule of recipients, and in some cases diminish the use of solar projects, or, in extreme cases, deter overall participation. For those that participate and propose solar projects, recipient resources will be required to perform market research and submit unavailability packages. Project schedules will need to be extended to account for waiver development and waiver processing though final approval. These anticipated delays adversely impact numerous agency goals of these projects, including climate action and energy justice.

The absence of a narrowly tailored BABA waiver will result in missed strategic opportunities to advance goals such as those within E.O. 14017 American's Strategy to Secure the Supply Chain for a Robust Clean Energy Transition and E.O. 14057 Catalyzing Clean Energy Industries and Jobs Through Federal Sustainability, in addition to the goals of E.O. 14005. A narrowly tailored BABA waiver will support the establishment of a domestic solar supply chain. Fundamentally, the domestic content provisions in the IRA clean energy production and investment tax credits, including relating to Internal Revenue Code sections 45, 45X, 45Y, 48, and 48E, including the domestic content bonus credit, constitute the significant driver for increasing the overall demand for domestic solar modules. Requiring full BABA compliance for federal financial assistance projects, as opposed to the narrowly tailored BABA compliance proposed in this waiver, would produce limited benefits for domestic solar manufacturing while potentially placing projects targeting vulnerable populations at risk.

VII. Assessment of Cost Advantage of a Foreign-Sourced Product

Under OMB Memorandum M-24-02, agencies are expected to assess “whether a significant portion of any cost advantage of a foreign-sourced product is the result of the use of dumped steel, iron, or manufactured products or the use of injuriously subsidized steel, iron, or manufactured products” as appropriate before granting a waiver. HUD's analysis has concluded that this assessment is not applicable to this waiver, because this waiver is not based on cost advantage of foreign sourced products.

VIII. Duration of Waiver

This proposed waiver, if finalized, applies to expenditures on solar panels after the Effective Date and by December 31, 2025, so long as those panels are installed by June 30, 2026.

IX. Solicitation of Comments

As required under section 70914 of the Act, HUD is soliciting comment from the public on the proposed waiver described in this Notice for a period of 15 days from the date of publication on HUD's web page. HUD seeks public comment from all interested parties. Input is sought from the public; specifically, stakeholders, including, but not limited to, FFA applicants and recipients, manufacturers, installers and other stakeholders across sectors and geographies. In particular, HUD seeks comment regarding the scope of this waiver and the following:

• Proposed dates of applicability, including effective date of the waiver and installed by date.

• Recommendations and comments regarding certification for BABA compliant solar modules. HUD is considering step-certification, a type of certification process under which each handler (supplier, fabricator, manufacturer, processor, etc.) of the subject products and materials certifies that their step in the process was domestically performed. Each time a step in the manufacturing process takes place, the manufacturer delivers its work along with a certification of its origin.

Relevant information and comments will help HUD to understand completely the facts surrounding the waiver request and the agency's proposed finding of nonavailability. If issued, this waiver will be applicable to FFA that HUD obligates on or after the effective date of the final waiver and in connection with the expenditure of FFA, which had been previously obligated by HUD, throughout the applicable waiver period.

Adrianne R. Todman,
Deputy Secretary Performing the Duties of the Secretary of HUD.

Appendix

HUD Green and Resilient Retrofit Program (GRRP) Awardees
| Property name | Owner entity name
1 | Huntsville Summit | Meridian Commons Ltd.
2 | Kings Road Apartments | Los Angeles County Development Authority.
3 | Pullman Point | Carlson Boulevard, L.P.
4 | Liggins Tower | Liggins Tower, LLLP.
5 | Lincoln Terrace | Housing Authority of the City of Wray, Colorado.
6 | Ainakea Elderly Housing Project | Ainakea Partners LP.
7 | Scotland Yards I | Avanath Scotland Yard, LLC.
8 | Country Acres Apartments | KCG Development LLC.
9 | Edwardsville Court | The Green Dols, LLC.
10 | Bayou Galion | Bayou Galion Limited Partnership.
11 | Sharlo Terrace II | Sharlo II Terrace Apartments, LP.
12 | St. John Berchman's Manor | St. John Berchman's Apartments, LLC.
13 | St. Bernard III dba Rouquette IV | St. Bernard III.
14 | Mei Wah Village | Mei Wah Village, Inc.
15 | St. Botolph Terrace | Madison Botolph II Limited Partnership.
16 | Autumn Woods Apartments | Autumn Woods LP.
17 | Vista Village | TWV Limited Partnership, a MN Limited Partnership.
18 | East Columbia Apartments | Columbia Development Program, Inc.
19 | Traceway Villas | Mississippi Methodist Senior Services, Inc.
20 | Turner Memorial Retirement Center | Greene County Retirement Systems, Inc.
21 | Centennial Park | Centennial Park Preservation LLC.
22 | Harbor View Plaza | Harbor View Plaza Ventures LLC.
23 | Seven Greens Apartments | Seven Greens Apartments LLC.
24 | Admiral Apartments | Wheeldon Admiral, LLC.
25 | Powell Boulevard Apartments, Inc | Powell Boulevard Apartments, Inc.
26 | Cobbs Creek NSA | South 54th Street Limited Partnership.
27 | St. George Athenagoras | St. George Senior Housing Corporation.
28 | Las Americas Housing | Anamar Developers Inc.
29 | Los Flamboyanes Apartments | Los Flamboyanes Apartments Limited Partnership.
30 | Pheasant Valley Courtyard | Pheasant Valley Courtyard, LLC.
31 | River View Towers | River View Housing Associates LP.
32 | Countryside Village Apartments | NHDC Countryside Village, LLC.
33 | Pioneer Court | Pioneer Court Housing.
34 | Wildwood Court Apartments | Wild Garden Housing LLC.
35 | Prairie Estates | Valentine Good Samaritan Housing, Inc.
36 | Bay Bridge Housing | Bay Bridge Corporation.
37 | Aspen Court | Aspen Drive Housing, Inc.
38 | Lamont House | Lamont House Inc.
39 | Rouquette Lodge III | Rouquette III.
40 | Lord Stirling Senior Housing | TCB Lord Stirling Urban Renewal L.P.
41 | Inglis Gardens at Germantown | Germantown Section 811 Housing Corporation.
42 | Savannah Gardens Senior Residences | Savannah Gardens Senior Residences, Inc.
43 | Jackson Towers | Lake Metropolitan Housing Authority.
44 | Forest Hills Village Apartments | Forest Hills Partners II, LLLP.
45 | St. Charles Villas | St. Charles Villas, LP.
46 | Hacienda Del Rio | Hacienda Senior Housing, L.P.
47 | Providence Gardens | Providence Gardens Apartments, LP.
48 | Marina Towers Annex | Marina Annex Housing Partners, LP.
49 | Ocean View Gardens | OAHS Ocean View LP.
50 | Playa Del Alameda Apartments | OAHS Playa Del Alameda LP.
51 | Second St. Andrews Apartments | Second St Andrews Preservation Limited Partnership.
52 | Gateway Village Apartments | Gateway Village Apartments LLLP.
53 | Gateway Terrace Apartments | Gateway Terrace II LP.
54 | Hillsborough County VOA Living Center Inc | Hillsborough Co VOA Living Center, Inc.
55 | Riverside Park Apartments | Riverside Park Apartments LLLP.
56 | Jack Hall Waipahu | JHW Kuhualua Partners LP.
57 | Van Buren Place | Urban Van Buren, LP.
58 | Forest Apartments | Standard Forest Owner LLC.
59 | Madison Avenue Apartments | Madison Avenue Associates LLLP (via Purchase Agreement w/SOCAYR Inc).
60 | West Byron Place | Urban West Byron, LP.
61 | Westminster Tower | Westminster Tower LP.
62 | Hickory Townhouses | Hickory Revitalization LLC.
63 | Elmtree Apartments | 2020 Elmhurst Detroit LLC.
64 | Harlem Gateway NSA Site 2 | Hargate JV Owners LLC.
65 | Georgetown Village | GV Preservation LLC.
66 | Victory One HDFC | Victory One HDFC.
67 | Burlwood Apartments | Hampstead Burlwood Limited Partnership.
68 | Norgate Plaza | Norgate Development Associates, L.P.
69 | Paul Robeson Houses | 1990 ACP Jr. Blvd., LLC.
70 | Lima Towers | Lima Towers Acquisition, L.P.
71 | Delmont Plaza | Delmont Plaza 2024 L.L.C.
72 | Rock Ridge | Rock Ridge, LP.
73 | City View Towers | Linden Camilla, LLC.
74 | Fountain Heights | B'nai B'rith New Haven LLC.
75 | Luther Terrace | Luther Terrace Inc.
76 | Oakhaven Village Apartments | Housing for the Elderly of Adamsville, Inc.
77 | Forest Cove Apts I | Standard Forest Cove I Venture LP.
78 | Forest Cove Apts II | Standard Forest Cove II Venture LP.
79 | Coeur d'Alene Plaza | CDA Plaza, LP.
80 | Lake Forest II | WHPC-Lake Forest II, LLC.
81 | Talbot Bernard Senior Housing | Codman Square Neighborhood Development Corporation.
82 | PRC Westchester Avenue | PRC Westchester Avenue LLC.
83 | Carson Square | Carson Square Preservation LP.
84 | The Heights at West Rock | The Glendower Group.
85 | 125th & Aurora Senior Housing | Low Income Housing Institute LIHI.
86 | Bon Secours New Shiloh I Apartments | Bon Secours New Shiloh I Limited Partnership.
87 | Parcel 9 Phase I—4% | Parcel 9 Phase I-4 LLC.
88 | Parcel 9 Phase I—9% | Parcel 9 Phase I-9 LLC.
89 | Courtview Towers | Courtview Towers Housing LLC.
90 | Pleasant View Apartments | Pleasant View 2024 Limited Partnership.
91 | North Hill Farms 2 | NHF 2021 Limited Dividend Housing Association L.L.C.
92 | Woodlen Place Apartments | Woodlen Place Associates, L.P.
93 | Northgate II | Fair Share Northgatte II Associates, LP.
94 | Crafton Towers | Crafton Towers-AHI, Inc.
95 | Gulfway Manor | Gulfway Housing Partners, LP.
96 | Summit at Lexington Square Apartments | TXLS, LP.
97 | Round Barn Apartments | Round Barn Housing Limited Partnership.
98 | Mid-Columbia Manor | Mid-Columbia Manor.
99 | Parkside | Parkside Apartments Preservation Limited Partnership.
100 | Garfield Hills Apartments | Garfield Hills Preservation Associates Limited Partnership.
101 | Riverside Apartments | Riverside 2023 L.L.C.
102 | Summit at Prince Hall Village Apartments | TXPHV, LP.
103 | Clement Kern Gardens | CK-2003 Limited Dividend Housing Association Limited Partnership.
104 | Chelsea Plaza | Chelsea Plaza 2023 L.L.C.
105 | Stonehedge Place Apartments | Stonehedge Apartments LLC.
106 | Fairweather Apartments—Beverly, Danvers, & Peabody | Fairweather Preservation Associates Limited Partnership.
107 | Southern Heights | Southern Heights Limited Partnership.
108 | Russel Erskine | Russel Erskine, LP.
109 | Travis Park Apartments | Travis Park Preservation LLC.

[FR Doc. 2024-30692 Filed 12-23-24; 8:45 am]

BILLING CODE 4210-67-P